DEPARTMENT OF LABOR

Employment and Training Administration

Planning Guidance and Instructions for Submission of the Strategic State Plan and Plan Modifications for Title I of the Workforce Investment Act of 1998 (WIA) and the Wagner-Peyser Act

AGENCY: Employment and Training Administration.

ACTION: Notice.

SUMMARY: The purpose of this notice is to provide interested parties with the planning guidance for use by states in submitting their Strategic State Plans for Title I of the Workforce Investment Act of 1998 and the Wagner-Peyser Act as well as Plan modifications. The Planning Guidance provides a framework for the collaboration of governors, local elected officials, businesses and other partners to continue the development of workforce investment systems that address customer needs, deliver integrated user-friendly services, and are accountable to the customers and the public.

FOR FURTHER INFORMATION CONTACT: Ms. Gay Gilbert, Administrator, Office of Workforce Investment, U.S. Department of Labor, 200 Constitution Ave., NW., Room S-4231, Washington, DC 20210. Telephone: (202) 693-3980 (voice) (this is not a toll free number) or (202) 693-7755 (TTY).

SUPPLEMENTARY INFORMATION:

State Planning Guidance and Instructions for Title I of the Workforce

Investment Act of 1998 (WIA) and the Wagner-Peyser Act

OMB Control Number: 1205-0398.

Expiration Date: Nov. 30, 2011.

Table of Contents

Statement of Purpose

Background

Part I. National Strategic Direction

A. Demand-Driven Workforce Investment System within a Regional Economic Development Context

B. System Reform and Increased Focus on Workforce Education and Training

C. Enhanced Integration through the One-Stop Delivery System with Improved Service Delivery and Increased Efficiencies

D. Vision for Serving Youth Most in Need

E. Increased Economic and Workforce Information Data Integration and Analysis

F. Effective Utilization of Faith-based and Community Organizations

G. Increased Use of Flexibility Provisions in WIA

H. An Integrated and Enhanced Performance Accountability System that Provides Improved System Results

Part II. State Planning Instructions

A. Plan Development Process

B. Plan Submission Requirements

C. Department of Labor Review and Approval

D. Negotiated Performance Indicators

E. Modifications to State Plan

F. Inquiries

State Plan Contents

I. State Vision

II. State Workforce Investment Priorities

III. State Governance Structure

A. Organization of State Agencies

B. State Workforce Investment Board (WIB)

C. State Agencies and State Board Collaboration and Communication

IV. Economic and Labor Market Analysis

V. Overarching State Strategies

VI. Major State Policies and Requirements

VII. Integration of One-Stop Service Delivery

VIII. Administration and Oversight of Local Workforce Investment System

IX. Service Delivery

A. One-Stop Service Delivery Strategies

B. Workforce Information

C. Adults and Dislocated Workers

D. Rapid Response

E. Youth

F. Business Services

G. Innovative Service Delivery Strategies

H. Strategies for Faith-based and Community Organizations

X. State Administration

XI. Assurances

Attachments

A. Program Administration Designees and Plan Signatures

B. Optional Table for State Performance Indicators and Goals

C. Local Planning Guidance for Single Workforce Investment Area States

D. ETA Regional Administrators (for reference only)

Statement of Purpose

The purpose of this document is to provide planning guidelines to States and localities for the development of the Strategic State Plan for title I of the Workforce Investment Act of 1998 (WIA) and the Wagner-Peyser Act (hereinafter referred to as the State Plan.) The State Plan is required in order for States to receive formula allotments under the Act. The information required in the State Plan is requested in order to meet the information requirements of the Act and/or to demonstrate compliance with WIA, the WIA regulations including 29 CFR 37, the Wagner-Peyser Act, and the Wagner-Peyser Act regulations.

Background

The State Planning Guidance and Instructions provide a framework for collaboration between governors, local elected officials, businesses and other partners to design and build workforce investment systems that address customer needs; deliver integrated, user-friendly services; and are accountable to the customers and the public. The document is organized in two distinct parts. Part I provides strategic guidance from a national perspective and communicates the current goals and strategic direction for the workforce investment system. Part II provides the actual format and guidance related to content for submission of the State Plan.

As one of its primary roles, the U.S. Department of Labor (DOL) provides leadership and guidance to support a system that not only meets the objectives of title I of WIA, but also enables State and local partners to have the flexibility to design systems and deliver services in a manner that achieves the goals for WIA based on their particular needs.

Part I. National Strategic Direction

Part I communicates national direction and strategic priorities for the workforce investment system.

The U.S. economy and its labor markets are undergoing changes of historic proportion. Globalization has forced change in every region in the country and impacted every aspect of our economy. While global competition is typically seen as a national challenge, the front lines of the battlefield are regional, where businesses create competitive advantage by collaborating with researchers, entrepreneurs, and government entities. That advantage stems from the ability to transform new ideas and knowledge into advanced, high-quality products or services—in other words, to innovate. Those regions that will be most successful will connect three key elements: Talent, infrastructure, and investment. In particular, they will connect workforce skills and lifelong learning strategies; regional infrastructure and economic development strategies; and investment and entrepreneurship strategies. Entrepreneurship plays a critical role in fueling innovation, as entrepreneurs account for more than half of all technological innovation which powers America's competitiveness.

Maintaining America's competitive position in the global economy requires a workforce with postsecondary education credentials, the capacity to work in a high-technology environment, and the opportunity to engage in lifelong learning to keep pace with change. Preparing workers to be part of such a workforce is the role of our system. The Employment and Training Administration (ETA) envisions that the workforce investment system will operate as a talent development system; it is no longer defined only as a job training system. A talent development system not only meets the needs of industry, but contributes to economic prosperity by collaborating with economic development to identify emerging industries that it can help foster and grow. Its vision is an educated and prepared workforce that is able to compete in the global economy.

Broadly, the Federal strategic priorities for the workforce investment system for this planning cycle include:

• Building a demand-driven system within a regional economic development context;

• Implementing system reform, with streamlined governance and alignment of economic and workforce development regions;

• Enhancing an integrated service delivery system that focuses on functions and services rather than programs or funding streams;

• Advancing a vision for serving youth most in need;

• Expanding the workforce information system as the foundation for strategic planning and career guidance;

• Strengthening partnerships with faith-based and community organizations;

• Increasing the use of flexibility provisions in WIA to design innovative programs that fuel regional economic competitiveness and create employment opportunities for career seeker customers; and

• Utilizing an integrated and enhanced performance accountability system.

A. Demand-Driven Workforce Investment System Within a Regional Economic Development Context

In today's economy, the workforce investment system has an opportunity to play a critical role in fueling competitiveness by developing talent—one of the three key requirements for innovation. To become a dynamic catalyst, the workforce investment system must evolve beyond its current configuration and status. Ideally, the system will be positioned to respond to a variety of economic conditions with talent development strategies that range from retrofitting an economy in an area where an entire industry is being reengineered, to building new industries from the ground up, and to building an entrepreneurial culture that fosters job creation.

The challenge for the workforce investment system is to become agile enough to serve an economy driven by innovation, recognizing the reality that approximately two-thirds of all new jobs are created by small businesses. Jobs in today's economy increasingly hinge on specialized skills, as 90 percent of the fastest growing jobs require education and training past high school.

Therefore, it is imperative that the system continue its transformation as a catalyst in reshaping talent development strategies in support of regional economic competitiveness. While the workforce investment system has implemented a number of key strategies to become increasingly demand-driven, new strategies are needed in the workforce investment system to drive regional economic growth. The workforce investment system must transform to be relevant in the 21st century economy. Elements of transformation include:

(1) The workforce investment system operates as a talent development system; it is no longer defined as a job training system. Its goal is an educated and prepared workforce—on a U.S. or global standard.

(2) Workforce investment system formula funds are transformed, providing significantly increased opportunity for postsecondary education for lifelong learning aligned with the region's talent development strategy.

(3) The workforce investment system no longer operates as an array of siloed programs and services.

(4) Workforce Investment Boards are structured and operate on a regional basis and are composed of regional strategic partners who drive investments by aligning spending with a regional economic vision for talent development.

(5) Economic and workforce development activities within regions are aligned, leading to the adoption of common and innovative policies across the workforce, education, and economic development systems and structures that support talent development and the regional economy.

(6) The workforce investment system is agile enough to serve the innovation economy, recognizing the reality that two-thirds of all new jobs are created by small businesses.

(7) The workforce investment system actively collaborates with economic development, business, and education partners to gather and analyze a wide array of current and real-time workforce and economic data in order to create new knowledge about regional economies and support strategic planning, routinely track economic conditions, measure outcomes, and benchmark economic competitiveness in the global marketplace.

B. System Reform and Increased Focus on Workforce Education and Training

The needs of the 21st century labor market are radically different from what we have known in the past, and for which most workers are currently trained. As a result, the American economy is facing a shortage of skilled workers which necessitates a talent development system that cultivates an educated and prepared workforce committed to lifelong learning. The following strategies can help advance an essential culture of lifelong learning:

• K-12 and alternative education curricula must be designed to academically prepare students to successfully move into postsecondary education as well as prepare students for success in the workplace through a range of strategies.

• Educational strategies for adult learners must offer more entry and exit points in recognition that students will need to earn and learn simultaneously. Such strategies may need to approach education and career progression incrementally rather than on one continuous path to a specific degree with the aim of moving the learner to the workplace. This is particularly essential for incumbent workers who need lifelong education to remain in economically self-sustaining jobs.

• New education models are needed to support the development of cross-disciplinary learning that matches the expanding number of cross-functional competencies and skill sets that are needed on the job.

States have multiple ways to drive system transformation and integration through policies, required practices, and investment of State set-aside funds, among others. There are a number of key areas the State may consider addressing in its Strategic Plan to respond to the current challenges of maintaining a competitive advantage and ensuring a prepared and educated workforce. These key areas may include, but are not limited to, the following:

• Aligning economic and workforce development strategies and facilitating the adoption of common and innovative policies across the workforce, education, and economic development systems and structures that support talent development in a regional economy;

• Reorganizing governance structures to operate on a regional basis and in a way that reduces administrative costs, streamlines service delivery systems, and increases flexibility to address the needs of State and regional economies;

• Promoting the engagement of strategic partners who drive investments in economic regions and align spending within a regional economic vision for talent development;

• Using State set-aside funds to respond more efficiently to economic trends and shocks, enabling State and Local Workforce Investment Boards greater agility;

• Increasing use of system resources for training through targeted policies such as setting a specific percentage of WIA funding that must be devoted to training and transforming the use of WIA formula funds to postsecondary education and lifelong learning opportunities aligned with the region's talent development strategy;

• Promoting the use of Registered Apprenticeship as an important talent development strategy and a critical postsecondary education, employment and training opportunity as part of the suite of options offered through the workforce investment system;

• Developing statewide polices to guide the use of assessments of individuals to enhance service delivery for business and job seekers; and

• Developing comprehensive, user-friendly economic data and skills information to enable informed decisions by the system, and its customers and partners.

C. Enhanced Integration Through the One-Stop Delivery System With Improved Service Delivery and Increased Efficiencies

The workforce investment system, as currently constituted, struggles to meet the challenges of educating and training a workforce that is prepared to compete in today's economy. This is partly due to the lack of integration, which causes too much money to be spent on competing bureaucracies, overhead costs, and unnecessary infrastructure, and not enough on meaningful skills training that leads to job growth and economic prosperity. The ultimate objective is a workforce investment system that eliminates duplicative costs for physical infrastructure, information systems, and administrative and managerial personnel; this will enable the system to devote scarce resources to more efficiently and effectively implement talent development strategies across multiple programs.

In addition to infrastructure integration, integrated service delivery remains essential to a demand-driven workforce investment system that effectively serves businesses and individuals. The workforce investment system must operate as a seamless system functionally organized around service delivery rather than an array of separate programs with separate processes. The objective is for “customers” to be seen as customers of the workforce investment system, not of a particular program. This goal is particularly important when focusing on targeted populations such as veterans, individuals with disabilities, military spouses, migrant and seasonal farmworkers, older workers, and others. All of these populations need access to all of the services in a One-Stop Career Center.

Achieving the goal of integrated service delivery requires strong State leadership to overcome administrative challenges and to foster a policy environment conducive to the integration of funding, facilities, and service delivery. The WIA State planning process offers a vehicle for the governor and State Workforce Investment Board to set forth policy expectations for integration and to help eliminate obstacles.

D. A Vision for Serving Youth Most In Need

Currently, there are nearly four million youth who are not in school, do not have a diploma, and are not working. Over 30 percent of our youth are dropping out of high school nationally, and the number is closer to 50 percent in many urban areas. In an attempt to address this problem, DOL has developed a Youth Vision which proposes that the workforce investment system serve the neediest youth: Youth aging out of foster care, those involved with the juvenile justice system, children of incarcerated parents, migrant youth, Native American youth, and youth with disabilities. Transforming the system to meet this objective requires that the current capacity, knowledge, and models in the workforce investment system be strengthened. Transformation is also necessary if the system is to meet new performance expectations and the specific performance measures for out-of-school youth literacy and numeracy gains, diploma attainment, and transition to postsecondary education.

Governors must continue to provide strong leadership in advancing the vision for serving youth most in need. States should expand upon existing efforts by aligning resources to address barriers and challenges and increase opportunities to access postsecondary education. States are encouraged to expand their cross-agency partnerships to ensure the right set of agencies:

• Are represented in the development of a coordinated strategic plan;

• Build upon State-level collaborative efforts by conducting strategic planning sessions to better understand the range of issues that impact their ability to serve the neediest youth;

• Develop a comprehensive understanding of resources that are available in the State for serving the neediest youth;

• Conduct analyses that identify where gaps in services and resource coordination exist; and

• Develop new strategies for serving the neediest youth through jointly funded solicitations.

States should also engage employers and civic leaders to identify demand-driven workforce solutions that address the unique challenges that out-of-school youth present. This includes building the capacity of the workforce investment system to provide services to these youth in a business solutions environment by identifying replicable models and innovative business solutions which connect secondary and postsecondary education, businesses and industry associations, and the workforce investment system.

Recognizing the critical need to reconnect out-of-school youth with high quality educational opportunities, the Youth Vision emphasizes the development of academically rigorous alternative education pathways. WIA-funded Youth programs should serve as a catalyst for increasing both the quality and quantity of alternative learning environments and connecting out-of-school youth with secondary and postsecondary educational opportunities and high-growth employment opportunities. A system for serving out-of-school youth should include high quality educational programs that will meet the learning styles and needs of youth who need to be reconnected to educational opportunities.

E. Increased Economic and Workforce Information Data Integration and Analysis

ETA reaffirms and strengthens its message about the centrality of workforce information for the workforce investment system leaders, and their economic development, business, and education partners. To be successful in its new role as a catalyst for leading talent development, the workforce investment system needs to actively collaborate with its partners to gather and analyze a wide array of current and real-time workforce and economic data in order to compile new knowledge about regional economies and support strategic planning, routinely track economic conditions, measure outcomes, and benchmark economic competitiveness in the global marketplace.

Not only is workforce information critical to support decisions of the national State and local political leadership, economic developers, business and industry, investors, and educators and to drive the investments of the workforce investment system, it is also a fundamental tool for guidance counselors, students, job seekers, and workers. The provision of workforce information in an economic context, through easy-to-use electronic tools, will empower customers in career planning and lifelong learning required by today's dynamic global economy.

Fulfilling the mandate for leadership in workforce and economic information can only occur by embracing a wide array of data sources, greater integration of the data, more complex analysis, new strategies for making it available to strategic partners engaged in developing regional economic agendas and talent development strategies. Accomplishing this requires collaboration among the owners of the data and developing methods to leverage public and private resources to produce the economic and workforce intelligence needed in a regional economy.

F. Effective Utilization of Faith-Based and Community Organizations

In every community, including those facing high poverty rates and other serious challenges, there are faith-based and community organizations (FBCOs) working to improve their community. These organizations can be valuable partners for the workforce investment system. DOL encourages States to build and strengthen both monetary and non-monetary partnerships with FBCOs.

These partnerships can strengthen participant outcomes by expanding access to services that complement those provided by the One-Stop Career Center, including job readiness and life skills training and niche and specialized services. These partnerships can also create new “points of access” to the One-Stop's electronic tools and job search assistance in many struggling communities.

Two distinct activities are critical to utilizing fully the complementary strengths of FBCOs. First, States must ensure compliance with the DOL's equal treatment regulations 29 CFR 2, subpart D. Compliance includes taking the administrative steps necessary to create a “level playing field” for all organizations willing to join with the government in service, including faith-based groups and other non-traditional community partners.

Second, States should actively cultivate FBCO partnerships to expand the reach of the workforce investment system and to improve outcomes for participants, including high-need individuals.

G. Increased Use of Flexibility Provisions in WIA

To fuel regional economic competitiveness and create employment opportunities for workers, States should exercise their authority to design and implement innovative strategies. States should take advantage of flexibility provisions under current legislative authority, including waivers and work-flex, to tailor service delivery and program design to fit the unique characteristics of their workforce areas.

The State planning process is a vehicle for identifying waiver opportunities and formally requesting waivers, including extensions of approved waivers, in concert with overall strategic planning. States are strongly encouraged to think about flexibility in broad terms and to utilize the flexibility provided by WIA to advance their strategic goals. States have received waivers in multiple program areas, during this and the previous five-year planning cycle, that have allowed them to implement a wide range of innovations to transform their workforce investment systems. States have received waivers that:

• Increase training opportunities by permitting the use of a portion of local area formula funds or funds reserved for rapid response activities to provide incumbent worker training.

• Decrease the amount that small and medium-sized businesses need to invest in order to take advantage of WIA's provision for customized and on-the-job training.

• Allow States to choose the most appropriate mix of youth services needed within each local and regional economy.

DOL provides technical assistance on waivers and work-flex and provides information on the waiver strategies States have utilized to date.

H. An Integrated and Enhanced Performance Accountability System That Provides Improved System Results

In an effective accountability system, a clear link exists between the State's program and service delivery design and the results achieved. Further, the performance information should be available and easily understood by all customers, stakeholders, and operators of the workforce investment system.

While great strides have been made in our reporting system in recent years, the accountability outcomes for the workforce investment system have not yet reached all goals. In addition, the various reporting requirements for the multiple programs operated by the workforce investment system impede the integrated service delivery system required for the demand-driven workforce investment systems that support regional economic competitiveness. To address this issue, DOL has implemented a set of common performance measures for many of its workforce programs, including WIA title IB, the Wagner-Peyser Act, and the Trade Adjustment Assistance Act. The common measures allow DOL to clearly state the core purposes of all the programs operated by the workforce investment system—helping people find jobs; stay employed; and improve earnings.

The common measures are the foundation of DOL's evolving performance accountability system. DOL continues to collect from States and grantees other information on program activities, participants, and outcomes necessary for program management, including data that support the existing WIA performance measures that are required to convey full and accurate information on the performance of workforce programs to policymakers and stakeholders.

Part II. State Planning Instructions

A. Plan Development Process

WIA gives States and local areas a unique opportunity to develop employment and training systems tailored specifically to State and local area needs. Since the State Plan is only as effective as the partnerships that operationalize it, it should represent a collaborative process among State and local elected officials, Boards and partners (including economic development, education, and private sector partners) to create a shared understanding of the State's workforce investment needs, a shared vision of how the workforce investment system can be designed to meet those needs, and agreement on the key strategies to attain this vision. This type of collaborative planning at all stages—from the initial planning discussions through drafting the State Plan document—will enable the State Plan to both drive local system improvements and allow room for strategies tailored to local needs. Plan development must also include an opportunity for stakeholder and public review and comment.

Describe in one page or less the process for developing the State Plan

1. Include (a) a discussion of the involvement of the governor and the State Board in the development of the Plan, and (b) a description of the manner in which the State Board collaborated with economic development, education, the business community and other interested parties in the development of the State Plan. (§ 112(b)(1).)

2. Include a description of the process the State used to make the Plan available to the public and the outcome of the State's review of the resulting public comments. (§§ 111(g), 112(b)(9).)

B. Plan Submission Requirements

1. Requirements for Submission and Points of Contact

WIA State Plans must have an original signature of the governor, and the name of the governor must be typed below or above the signature. States can meet this requirement by completing the signature page provided in Attachment A of this Guidance, entitled Program Administration Designees and Plan Signatures, which includes a space for the governor to sign and certify that the State will operate the WIA and Wagner-Peyser Act programs in accordance with the Plan.

The designated Federal Coordinator for the review and approval process is Janet Sten, E-mail: Sten.Janet@dol.gov; phone: 202-693-3045.

2. Submission Options—Electronic, CD-ROM or Hard Copy Format

States have the option to submit State Plans in an electronic, hard copy, or CD-ROM format. DOL encourages States to submit State Plans in electronic format to reduce the reporting and processing burden and to ensure timely receipt by the Department.

a. Electronic Submission. States can submit a State Plan electronically either by posting it on an Internet Web site that is accessible to the Department or by transmitting it through E-mail to the Department. State Plan certifications with electronic signatures are acceptable. If a State chooses not to use an electronic signature, then the signature page (Attachment A) must be submitted in hard copy.

i. Posting State Plans on an Internet Web Site. Under this option, a State should post its State Plan on an Internet Web site; inform the Federal Coordinator and the appropriate ETA Regional Administrator (as listed in Attachment D) through electronic mail of the URL and the location of the document on the Web site; provide contact information in the event of problems with accessing the Web site; and certify that no changes will be made to the version of the State Plan posted on the Web site after it has been submitted to the Department, unless the Department gives prior approval for such changes.

ii. Transmitting State Plans by E-Mail. States submitting their Plan by electronic mail should send it to WIA.PLAN@DOL.GOV with a copy sent to the appropriate ETA Regional Administrator (as listed in Attachment D). If a State chooses to submit its State Plan by transmitting it through electronic mail, the State must submit it in Microsoft Word or PDF format.

b. Hard Copy or CD-ROM Submission. States choosing to submit a hard copy should submit one copy of the Plan with an original signature to the appropriate ETA Regional Administrator (as listed in Attachment D), and one copy to Janet Sten, the Federal Coordinator for Plan Review and Approval.

Division of Workforce System Support, Employment and Training Administration, U.S. Department of Labor, 200 Constitution Ave., NW., Room S-4231, Washington, DC 20210, ATTN: Janet Sten.

States submitting a State Plan on CD-ROM should submit one copy of the Plan to Janet Sten, the Federal Coordinator for Plan Review and Approval, and one copy to the appropriate ETA Regional Administrator (as listed in Attachment D). If the State Plan on the CD-ROM does not include the signature of the governor on the signature page, the State must submit separately an electronic signature or a signature page in hard copy. Plans submitted on a CD-ROM must be in Microsoft Word or PDF format.

3. Receipt Confirmation

The Federal Coordinator, without regard to which option the State uses for submission, will confirm receipt of the State Plan within two business days of receipt and indicate the date for the start of the review period. When a State submits an incomplete State Plan, the period for review will not start until all required components of the State Plan have been received.

C. Department of Labor Review and Approval

State Plans will be reviewed in accordance with 20 CFR 661.220(e), which provides that the Secretary must approve all State Plans within 90 days of their submission, unless the Secretary determines in writing that: (1) the State Plan is inconsistent with the provisions of title I of WIA or the WIA regulations, including 29 CFR 37; or (2) the portion of the State Plan impacting the Wagner-Peyser Act Plan does not satisfy the criteria for approval in section 8(d) of the Wagner-Peyser Act or the Wagner-Peyser Act regulations at 20 CFR 652.

ETA will advise the State by letter, as soon as possible, that the State Plan is approved or disapproved. If the State Plan is not approved, ETA will clearly indicate the reasons for disapproval and specify what additional information is required or what action needs to be taken for the State Plan to be approved.

D. Negotiated Performance Indicators

WIA allows considerable flexibility in system design and service delivery, in exchange for both accountability for a key set of outcomes and improving those outcomes over time. To accomplish this, the Secretary of Labor and the governor of each State must reach agreement on the State's negotiated performance levels for the core indicators of performance, and for customer satisfaction indicators of employers' and participants' satisfaction. These levels of performance become the basis for sanctions for failed performance and, with additional performance levels for WIA title II Adult Education and Family Literacy Act programs and Carl D. Perkins Career and Technical Education Act of 2006 programs, the basis for incentive grants.

At a minimum, the State Plan should include proposed performance goals for WIA and Wagner-Peyser Act programs for each of the performance indicators for each program year covered by the Plan. While the State Plan is under review, the ETA Regional Administrator and the State will discuss the performance levels, and negotiate on them as appropriate. The Department expects States to enter into preliminary discussions with the Local Workforce Investment Boards and the ETA Regional Administrators before submitting the State Plan. States are expected to come to the negotiating table with support from their Local Workforce Investment Boards for the proposed performance goals. Entering into preliminary discussions prior to Plan submission will maximize the time available to States, local areas, and the Department to develop a shared set of goals. ETA Regional Administrators will coordinate with other DOL program administrators, including the Veterans' Employment and Training Service (VETS) Regional Administrators, to assure comprehensive Departmental participation.

States should note that the proposed levels of performance are subject to public review and comment requirements. States that have completed negotiations with ETA should include their agreed-upon levels of performance for each program year covered by the Plan for the WIA and Wagner-Peyser Act programs.

In cases where final agreement on performance goals is reached after the State Plan is submitted to ETA for review and approval, but before ETA approval of the State Plan, the letter advising the States of approval of the State Plan will include ETA's approval of the agreed-upon goals.

In cases where final agreement on performance goals has not been reached until after the State Plan has been approved, the ETA Regional Administrator's letter advising the State of the agreed-upon goals will constitute a modification to the State Plan. For subsequent revisions to performance goals during the life of the State Plan, the ETA Regional Administrator's letter advising the State of the agreed upon goals will also constitute a modification to the State Plan. The State must ensure that the agreed-upon goals are included in the State's official copy of the State Plan, and that any published State Plan, on the State's Web site or through other forums, includes the agreed-upon goals. ETA will incorporate these performance goals into the Regional and National Office copies of the State's Plan.

E. Modifications to State Plans

Modifications may be needed in any number of areas to keep the State Plan a viable, living document over its life span. WIA regulations permit States to modify their Plan at any time and 20 CFR 652.212 and 661.230 outline the circumstances under which modifications must be submitted. Modifications are required when:

(1) Changes in Federal or State law or policy substantially change the assumptions upon which the Plan is based.

(2) There are changes in the statewide vision, strategies, policies, performance indicators, the methodology used to determine local allocation of funds, reorganizations which change the working relationship with system employees, changes in organizational responsibilities, changes to the membership structure of the State Board or alternative entity and similar substantial changes to the State's workforce investment system.

(3) The State has failed to meet performance goals, and must adjust service strategies.

The regulations, at 20 CFR 652.212, which relate to the Wagner-Peyser Act portions of the Plan, also require modifications when there is any reorganization of the State agency designated to deliver services under the Wagner-Peyser Act, any change in service delivery strategy, any change in levels of performance when performance goals are not met, or any change in services delivered by State merit-staff employees.

In general, it is substantial changes to the Strategic State Plan that require a modification under the regulations, i.e., any change that significantly impacts the operation of the State's workforce investment system.

Modifications to the State Plan are subject to the same public review and comment requirements that apply to the development of the original State Plan. States wishing to submit a State Plan modifications should follow the submission guidelines listed in Section B, “Plan Submission Requirements.” States should direct any questions about the need to submit a Plan modification to the appropriate ETA Regional Administrator (as listed in Attachment D).

F. Inquiries

General inquiries about the State Planning Guidance and Instructions may be directed to Janet Sten, the Federal Coordinator for Plan Review and Approval. She may be contacted by E-mail at Sten.Janet@dol.gov or by phone at 202-693-3045. Inquiries about specific State issues should be directed to the appropriate ETA Regional Administrator (as listed in Attachment D).

State Plan Contents

I. State Vision. Describe the governor's vision for a statewide workforce investment system. Provide a summary articulating the governor's vision for utilizing the resources of the workforce investment system in support of the State's economic development that address the issues and questions below. States are encouraged to attach more detailed documents to expand upon any aspect of the summary response if available. (§ 112(a) and (b)(4)(A-C).)

A. What are the State's economic development goals for attracting, retaining and growing business and industry within the State? (§ 112(a) and (b)(4)(A-C).)

B. Given that a skilled workforce is a key to the economic success of every business, what is the governor's vision for maximizing and leveraging the broad array of Federal and State resources available for workforce investment flowing through the State's cabinet agencies and/or education agencies in order to ensure a skilled workforce for the State's business and industry? (§ 112(a) and (b)(4)(A-C).)

C. Given the continuously changing skill needs that business and industry have as a result of innovation and new technology, what is the Governor's vision for ensuring a continuum of education and training opportunities that support a skilled workforce? (§ 112(a) and (b)(4)(A-C).)

D. What is the governor's vision for bringing together the key players in workforce development including business and industry, economic development, education, and the workforce investment system to continuously identify the workforce challenges facing the State and to develop innovative strategies and solutions that effectively leverage resources to address those challenges? (§ 112(b)(10).)

E. What is the governor's vision for ensuring that every youth has the opportunity for developing and achieving career goals through education and workforce training, including the youth most in need of assistance, such as out-of-school youth, homeless youth, youth in foster care, youth aging out of foster care, youth offenders, children of incarcerated parents, migrant and seasonal farmworker youth, youth with disabilities, and other youth at risk? (§ 112(b)(18)(A.)

II. State Workforce Investment Priorities. Identify the governor's key workforce investment priorities for the State's workforce investment system and how each will lead to actualizing the governor's vision for workforce and economic development. (§§ 111(d)(2) and 112(a).)

III. State Governance Structure (§ 112(b)(8)(A).)

A. Organization of State Agencies

1. Provide an organizational chart that delineates the relationship to the governor of the agencies involved in the workforce investment system, including education and economic development and the required and optional One-Stop partner programs managed by each agency.

2. In a narrative describe how the agencies involved in the workforce investment system interrelate on workforce, economic development, and education issues and the respective lines of authority.

B. State Workforce Investment Board (§ 112(b)(1).)

1. Describe the organization and structure of the State Board. (§ 111.)

2. Identify the organizations or entities represented on the State Board. If you are using an alternative entity which does not contain all the members required under section 111(b)(1) of WIA, describe how each of the entities required under this section will be involved in planning and implementing the State's workforce investment system as envisioned in WIA. How is the alternative entity achieving the State's WIA goals? (§§ 111(a-c), 111(e), and 112(b)(1).)

3. Describe the process your State used to identify your State Board members. How did you select Board members, including business representatives, who have optimum policy-making authority and who represent diverse regions of the State as required under WIA? (20 CFR 661.200).)

4. Describe how the Board's membership enables you to achieve your vision as described above. (§§ 111(a-c) and 112(b)(1).)

5. Describe how the Board carries out its functions as required in section 111(d) of WIA and 20 CFR 661.205. Include functions the Board has assumed that are in addition to those required. Identify any functions required in section 111(d) of WIA that the Board does not perform and explain why.

6. How will the State Board ensure that the public (including people with disabilities) has access to Board meetings and information regarding State Board activities, including membership and meeting minutes? (20 CFR 661.205).

7. Identify the circumstances which constitute a conflict of interest for any State or Local Workforce Investment Board member or the entity that s/he represents, and any matter that would provide a financial benefit to that member or his or her immediate family. (§§ 111(f), 112(b)(13), and 117(g).)

8. What resources does the State provide the Board to carry out its functions (e.g., staff, funding, etc.)?

C. State Agencies and State Board Collaboration and Communication. (§ 112(b)(8)(A).)

1. Describe the steps the State will take to improve operational collaboration of the workforce investment activities and other related activities and programs outlined in section 112(b)(8)(A) of WIA, at both the State and local level (e.g., joint activities, memoranda of understanding, planned mergers, coordinated policies, etc.). How will the State Board and agencies eliminate any existing State-level barriers to coordination? (§§ 111(d)(2) and 112(b)(8)(A).)

2. Describe the lines of communication established by the governor to ensure open and effective sharing of information among the State agencies responsible for implementing the vision for the workforce investment system and between the State agencies and the State Workforce Investment Board.

3. Describe the lines of communication and mechanisms established by the governor to ensure timely and effective sharing of information between the State agencies/State Board and local workforce investment areas and Local Boards. Include types of regularly issued guidance and how Federal guidance is disseminated to Local Boards and One-Stop Career Centers. (§ 112(b)(1).)

4. Describe any cross-cutting organizations or bodies at the State level designed to guide and inform an integrated vision for serving youth in the State within the context of workforce investment, social services, juvenile justice, and education. Describe the membership of such bodies and the functions and responsibilities in establishing priorities and services for youth. How is the State promoting a collaborative cross-agency approach for both policy development and service delivery at the local level for youth? (§ 112(b)(18)(A).)

IV. Economic and Labor Market Analysis. (§ 112(b)(4)): As a foundation for this Plan and to inform the strategic investments and strategies that flow from this Plan, provide a detailed analysis of the State's economy, the labor pool, and the labor market context. Elements of the analysis should include the following:

A. What is the current makeup of the State's economic base by industry?

B. What industries and occupations are projected to grow and/or decline in the short term and over the next decade?

C. In what industries and occupations is there a demand for skilled workers and available jobs, both today and projected over the next decade? Estimate projected demand.

D. What jobs/occupations are most critical to the State's economy?

E. What are the skill needs for the available, critical and projected jobs?

F. What are the current and projected demographics of the available labor pool (including the incumbent workforce) both now and over the next decade?

G. Is the State experiencing any “in migration” or “out migration” of workers that impact the labor pool?

H. Based on an analysis of both the projected demand for skills and the available and projected labor pool, what skill gaps is the State experiencing today and what skill gaps are projected over the next decade?

I. Based on an analysis of the economy and the labor market, what workforce development issues has the State identified?

J. What workforce development issues has the State prioritized as being most critical to its economic health and growth?

V. Overarching State Strategies

A. Identify how the State will use WIA title I funds to leverage other Federal, State, local, and private resources in order to maximize the effectiveness of such resources and to expand the participation of business, employees, and individuals in the statewide workforce investment system? (§ 112(b)(10).)

B. What strategies are in place to address the national strategic direction discussed in Part I of this guidance, the governor's priorities, and the workforce development issues identified through the analysis of the State's economy and labor market? (§ 112(b)(4)(D) and 112(a).)

C. Based on the State's economic and labor market analysis, what strategies has the State implemented or planned to implement to target industries and occupations within the State that are high-growth, high-demand, and vital to the State's economy? (§ 112(a) and 112(b)(4)(A).) The State may want to consider:

1. Industries projected to add a substantial number of new jobs to the economy; or

2. Industries that have a significant impact on the overall economy; or

3. Industries that impact the growth of other industries; or

4. Industries that are being transformed by technology and innovation that require new skill sets for workers; or

5. Industries that are new and emerging and are expected to grow.

D. What strategies are in place to promote and develop on-going and sustained strategic partnerships that include business and industry, economic development, the workforce investment system, and education partners (K-12, community colleges and others) for the purpose of continuously identifying workforce challenges and developing solutions to targeted industries' workforce challenges? (§ 112(b)(8).)

E. What State strategies are in place to ensure that sufficient system resources are being spent to support training of individuals in high-growth, high-demand industries? (§ 112(b)(17)(A)(i) and 112(b)(4)(A).)

F. What workforce strategies does the State have to support the creation, sustainability, and growth of small businesses and support for the workforce needs of small businesses as part of the State's economic strategy? (§ 112(b)(4)(A) and 112(b)(17)(A)(i).)

G. How are the funds reserved for statewide activities used to incentivize the entities that make up the State's workforce investment system at the State and local levels to achieve the governor's vision and address the national strategic direction identified in Part I of this guidance? (§ 112(a).)

H. Describe the State's strategies to promote collaboration between the workforce investment system, education, human services, juvenile justice, and other systems to better serve youth that are most in need and have significant barriers to employment, and to successfully connect them to education and training opportunities that lead to successful employment. (§ 112(b)(18)(A).)

I. Describe the State's strategies to identify State laws, regulations, policies that impede successful achievement of workforce development goals and strategies to change or modify them. (§ 112(b)(2).)

J. Describe how the State will take advantage of the flexibility provisions in WIA for waivers and the option to obtain approval as a workflex State pursuant to § 189(i) and § 192.

VI. Major State Policies and Requirements. Describe major State policies and requirements that have been established to direct and support the development of a statewide workforce investment system not described elsewhere in this Plan as outlined below. (§ 112(b)(2).)

A. What State policies and systems are in place or planned to support common data collection and reporting processes, information management, integrated service delivery, and performance management? (§§ 111(d)(2) and 112(b)(8)(B).)

B. What State policies are in place that promote efficient use of administrative resources such as requiring more co-location and fewer affiliate sites in local One-Stop systems to eliminate duplicative facility and operational costs or requiring a single administrative structure at the local level to support Local Boards and to be the fiscal agent for WIA funds to avoid duplicative administrative costs that could otherwise be used for service delivery and training? The State may include administrative cost con trols, plans, reductions, and targets for reductions if it has established them. (§§ 111(d)(2) and 112(b)(8)(A).)

C. What State policies are in place to promote universal access and consistency of service statewide? (§ 112(b)(2).)

D. What policies support a demand-driven approach to workforce development, as described in Part I, “Demand-Driven Workforce Investment System—such as training on the economy and labor market data for Local Board and One-Stop Career Center staff? (§ 112(b)(4) and 112(b)(17)(A)(iv).)

E. What policies are in place to ensure that the resources available through the Federal and/or State Registered Apprenticeship programs and the Job Corps are fully integrated with the State's One-Stop delivery system? (§ 112)(b)(17)(A)(iv).)

VII. Integration of One-Stop Service Delivery. Describe the actions the State has taken to ensure an integrated One-Stop service delivery system statewide. (§§ 112(b)(14) and 121).)

A. What State policies and procedures are in place to ensure the quality of service delivery through One-Stop Career Centers such as development of minimum guidelines for operating comprehensive One-Stop Career Centers, competencies for One-Stop Career Center staff or development of a certification process for One-Stop Career Centers? (§ 112(b)(14).)

B. What policies or guidance has the State issued to support maximum integration of service delivery through the One-Stop delivery system for both business customers and individual customers? (§ 112(b)(14).)

C. What actions has the State taken to promote identifying One-Stop infrastructure costs and developing models or strategies for local use that support integration? (§ 112(b)(14).)

D. How does the State use the funds reserved for statewide activities pursuant to § 129(b)(2)(B) and 134(a)(2)(B)(v) to assist in the establishment and operation of One-Stop delivery systems? (§ 112(b)(14).)

E. How does the State ensure the full array of services and staff in the One-Stop delivery system support human capital solutions for businesses and individual customers broadly? (§ 112(b)(14).)

VIII. Administration and Oversight of Local Workforce Investment System

A. Local Area Designations

1. Identify the State's designated local workforce investment areas and the date of the most recent area designation, including whether the State is currently re-designating local areas. (§§ 112(b)(5).)

2. Include a description of the process used to designate such areas. Describe how the State considered the extent to which such local areas are consistent with labor market areas: geographic areas served by local and intermediate education agencies, post-secondary education institutions and area career and technical education schools; and all other criteria identified in section 116(a)(1) in establishing area boundaries, to assure coordinated planning. Describe the State Board's role, including all recommendations made on local designation requests pursuant to section 116(a)(4). (§§ 112(b)(5) and 116(a)(1).)

3. Describe the appeals process used by the State to hear appeals of local area designations referred to in §§ 112(b)(5) and 116(a)(5).

B. Local Workforce Investment Boards—Identify the criteria the State has established to be used by the Chief Elected Official(s) in the local areas for the appointment of Local Board members based on the requirements of section 117. (§§ 112(b)(6), 117(b).)

C. How will the State build the capacity of Local Boards to develop and manage a high performing local workforce investment system? (§§ 111(d)(2) and 112(b)(14).)

D. Local Planning Process (§ 112(b)(2) and 20 CFR 661.350(a)(13))—Describe the State mandated requirements for local workforce areas' strategic planning, and the assistance the State provides to local areas to facilitate this process, including:

1. What oversight of the local planning process is provided, including receipt and review of plans and negotiation of performance agreements?

2. How does the Local Plan approval process ensure that Local Plans are consistent with State performance goals and State strategic direction?

Regional Planning (§§ 112(b)(2) and 116(c).)

1. Describe any intra-State or inter-State regions and their corresponding performance measures.

2. Include a discussion of the purpose of these designations and the activities (such as regional planning, information sharing and/or coordination activities) that will occur to help improve performance. For example, regional planning efforts could result in the sharing of labor market information or in the coordination of transportation and support services across the boundaries of local areas.

3. For inter-State regions (if applicable), describe the roles of the respective governors and State and Local Boards.

E. Allocation Formulas (§ 112(b)(12).)

1. If applicable, describe the methods and factors (including weights assigned to each factor) the State will use to distribute funds to local areas for the thirty percent discretionary formula Adult employment and training funds and Youth funds pursuant to §§ 128(b)(3)(B) and 133(b)(3)(B).

2. Describe how the allocation methods and factors help ensure that funds are distributed equitably throughout the State and that there will be no significant shifts in funding levels to a local area on a year-to-year basis.

3. Describe the State's allocation formula for dislocated worker funds under § 133(b)(2)(B).

4. Describe how the individuals and entities on the State Board were involved in the development of the methods and factors, and how the State consulted with Chief Elected Officials in local areas throughout the State in determining such distribution.

F. Provider Selection Policies (§§ 112(b)(17)(A)(iii), 122, and 134(d)(2)(F).)

1. Identify the State policies and procedures, to be applied by local areas, for determining eligibility of local level training providers, how performance information will be used to determine continuing eligibility and the agency responsible for carrying out these activities.

2. Describe how the State solicited recommendations from Local Boards and training providers and interested members of the public, including representatives of business and labor organizations, in the development of these policies and procedures.

3. Describe how the State will update and expand the State's eligible training provider list to ensure it has the most current list of providers to meet the training needs of customers.

4. Describe the procedures the governor has established for providers of training services to appeal a denial of eligibility by the Local Board or the designated State agency, a termination of eligibility or other action by the Board or agency, or a denial of eligibility by a One-Stop operator. Such procedures must include the opportunity for a hearing and time limits to ensure prompt resolution.

5. Describe the competitive and non-competitive processes that will be used at the State level to award grants and contracts for activities under title I of WIA, including how potential bidders are being made aware of the availability of grants and contracts. (§ 112(b)(16).)

6. Identify the criteria to be used by Local Boards in awarding grants for Youth activities, including criteria that the governor and Local Boards will use to identify effective and ineffective Youth activities and providers of such activities. (§ 112(b)(18)(B).)

G. One-Stop Policies (§ 112(d)(14).)

1. Describe how the services provided by each of the required and optional One-Stop partners will be coordinated and made available through the One-Stop system. (§ 112(b)(8)(A).)

2. Describe how the State helps local areas identify areas needing improvement and how technical assistance will be provided.

3. Identify any additional State mandated One-Stop partners (such as Temporary Aid to Needy Families (TANF) or Food Stamp Employment and Training) and how their programs and services are integrated into the One-Stop Career Centers.

H. Oversight/Monitoring Process—Describe the monitoring and oversight criteria and procedures the State utilizes to move the system toward the State's vision and achieve the goals identified above, such as the use of mystery shoppers, performance agreements. (§ 112(b)(14).)

I. Grievance Procedures. Attach a copy of the State's grievance procedures for participants and other affected parties (including service providers.) (§§ 122(g) and 181(c).)

J. Describe the following State policies or procedures that have been developed to facilitate effective local workforce investment systems (§§ 112(b)(17)(A) and 112(b)(2)):

1. State guidelines for the selection of One-Stop providers by Local Boards;

2. Procedures to resolve impasse situations at the local level in developing memoranda of understanding (MOUs) to ensure full participation of all required partners in the One-Stop delivery system;

3. Criteria by which the State will determine if Local Boards can run programs in-house;

4. Performance information that on-the-job training and customized training providers must provide;

5. Reallocation policies;

6. State policies for approving local requests for authority to transfer funds between the Adult and Dislocated Worker funding streams at the local level;

7. Policies related to displaced homemakers, nontraditional training for low-income individuals, older workers, low-income individuals, disabled individuals and others with multiple barriers to employment and training;

8. If the State did not delegate this responsibility to Local Boards, provide the State's definition regarding the sixth Youth eligibility criterion at section 101(13)(C)(iv) (“an individual who requires additional assistance to complete an educational program, or to secure and hold employment”). (§§ 112(b)(18)(A) and 20 CFR 664.210).)

IX. Service Delivery—Describe the approaches the State will use to provide direction and support to Local Boards and the One-Stop Career Center delivery system on the strategic priorities to guide investments, structure business engagement, and inform service delivery approaches for all customers. (§ 112(b)(17)(A)) Activities could include:

A. One-Stop Service Delivery Strategies: (§§ 112(b)(2) and 111(d)(2).)

1. How will the services provided by each of the required and optional One-Stop partners be coordinated and made available through the One-Stop system? (§ 112(b)(8)(A).)

2. How are Youth formula programs funded under § 128(b)(2)(A) integrated in the One-Stop system?

3. What minimum service delivery requirements does the State mandate in a comprehensive One-Stop Career Center or an affiliate site?

4. What tools and products has the State developed to support service delivery in all One-Stop Career Centers statewide?

5. What models/templates/approaches does the State recommend and/or mandate for service delivery in the One-Stop Career Centers? For example, do all One-Stop Career Centers have a uniform method of organizing their service delivery to business customers? Is there a common individual assessment process utilized in every One-Stop Career Center? Are all One-Stop Career Centers required to have a resource center that is open to anyone?

B. Workforce Information—A fundamental component of a demand-driven workforce investment system is the integration and application of the best available State and local workforce information including, but not limited to, economic data, labor market information, Census data, private sources of workforce information produced by trade associations and others, educational data, job vacancy surveys, transactional data from job boards, and information obtained directly from businesses. (§§ 111(d)(8), 112(b)(1), and 134(d)(2)(E).)

1. Describe how the State will integrate workforce information into its planning and decision making at the State and local level, including State and Local Boards, One-Stop operations, and case manager guidance.

2. Describe the approach the State will use to disseminate accurate and timely workforce information to businesses, job seekers, and employment counselors, in easy to use formats that are readily accessible within One-Stop Career Centers and at remote locations such as libraries, schools, worksites, and at home.

3. Describe how the activities funded through ETA's Workforce Information Grants to the State are aligned with other workforce activities to ensure that the investments in core products and services support the State's overall strategic direction for workforce investment.

4. Describe how State workforce information products and tools are coordinated with the national electronic workforce information tools including America's Career Information Network and Career Voyages.

C. Adults and Dislocated Workers

1. Core Services. (§ 112(b)(17)(a)(i).)

a. Describe State strategies and policies to ensure adults and dislocated workers have universal access to the minimum required core services as described in § 134(d)(2).

b. Describe how the State will ensure the three-tiered service delivery strategy for labor exchange services for job seekers and employers authorized by the Wagner-Peyser Act includes: (1) Self-service, (2) facilitated self-help service, and (3) staff-assisted service, and is accessible and available to all customers at the local level.

c. Describe how the State will integrate resources provided under the Wagner-Peyser Act and WIA title I for adults and dislocated workers as well as resources provided by required One-Stop partner programs, to deliver core services.

2. Intensive Services. (§ 112(b)(17)(a)(i).) Describe State strategies and policies to ensure adults and dislocated workers who meet the criteria in § 134(d)(3)(A) receive intensive services as defined.

3. Training Services. (§ 112(b)(17)(A)(i).)

a. Describe the governor's vision for increasing training access and opportunities for individuals including the investment of WIA title I funds and the leveraging of other funds and resources.

b. Individual Training Accounts (ITAs):

i. What policy direction has the State provided for ITAs?

ii. Describe innovative training strategies used by the State to fill skills gaps. Include in the discussion the State's efforts to leverage additional resources to maximize the use of ITAs through partnerships with business, education (in particular, community and technical colleges), economic development agencies, and industry associations and how business and industry involvement is used to drive this strategy.

iii. Discuss the State's plan for committing all or part of WIA title I funds to training opportunities in high-growth, high-demand, and economically vital occupations.

iv. Describe the State's policy for limiting ITAs (e.g., dollar amount or duration).

v. Describe the State's current or planned use of WIA title I funds for the provision of training through Registered Apprenticeship.

vi. Identify State policies that permit the use of WIA title I financial assistance to employ or train participants in religious activities when the assistance is provided indirectly, such as through an ITA. (29 CFR 37.6(f); 20 CFR 667.266 and 667.275.)

c. Eligible Training Provider List. Describe the State's process for providing broad customer access to the statewide list of eligible training providers and their performance information including at every One-Stop Career Center. (§ 112(b)(17)(A)(iii).)

d. On-the-Job (OJT) and Customized Training (§§ 112(b)(17)(A)(i) and 134(b).). Based on the outline below, describe the State's major directions, policies and requirements related to OJT and customized training.

i. Describe the governor's vision for increasing training opportunities to individuals through the specific delivery vehicles of OJT and customized training.

ii. Describe how the State:

• Identifies OJT and customized training opportunities;

• Markets OJT and customized training as an incentive to untapped employer pools including new business to the State and employer groups;

• Partners with high-growth, high-demand industries and economically vital industries to develop potential OJT and customized training strategies;

• Taps business partners to help drive the demand-driven strategy through joint planning, competency and curriculum development, and determining appropriate lengths of training; and

• Leverages other resources through education, economic development and industry associations to support OJT and customized training ventures.

4. Service to Specific Populations. (§ 112(b)(17)(A)(iv).)

a. Describe the State's strategies to ensure that the full range of employment and training programs and services delivered through the State's One-Stop delivery system are accessible to and will meet the needs of dislocated workers, displaced homemakers, low-income individuals, migrant and seasonal farmworkers, women, minorities, individuals training for non-traditional employment, veterans, public assistance recipients and individuals with multiple barriers to employment (including older individuals, limited English proficiency (LEP) individuals, and people with disabilities).

b. Describe the reemployment services the State provides to unemployment insurance claimants and the Worker Profiling services provided to claimants identified as most likely to exhaust their unemployment insurance benefits in accordance with section 3(c)(3) of the Wagner-Peyser Act.

c. Describe how the State administers the unemployment insurance work test and how feedback requirements (under section 7(a)(3)(F) of the Wagner-Peyser Act) for all UI claimants are met.

d. Describe the State's strategy for integrating and aligning services to dislocated workers provided through the WIA rapid response, WIA Dislocated Worker, and Trade Adjustment Assistance (TAA) programs. Does the State have a policy supporting co-enrollment for WIA and TAA?

e. How is the State's workforce investment system working collaboratively with business and industry and the education community to develop strategies to overcome barriers to skill achievement and employment experienced by the populations listed in paragraph (a.) above and to ensure they are being identified as a critical pipeline of workers?

f. Describe how the State will ensure that the full array of One-Stop services is available to individuals with disabilities and that the services are fully accessible.

g. Describe the role Local Veterans' Employment Representative/Disabled Veteran's Outreach Program (LVER/DVOP) staff have in the One-Stop delivery system. How will the State ensure adherence to the legislative requirements for veterans' employment program staff? How will services under this Plan take into consideration the agreement reached between the Secretary and the State regarding veterans' employment programs? (§§ 112(b)(7), 112(b)(17)((B), and 322; 38 U.S.C. Chapter 41; and 20 CFR 1001.120).)

h. DOL regulations at 29 CFR 37 require all recipients of Federal financial assistance from DOL to provide meaningful access to LEP individuals. Federal financial assistance includes grants, training, equipment usage, donations of surplus property, and other assistance. The regulations also apply to sub-recipients when Federal DOL funds are passed through from one recipient to a sub-recipient. Describe how the State will ensure access to services through the State's One-Stop delivery system by persons with limited English proficiency and how the State will meet the requirements of ETA Training and Employment Guidance Letter (TEGL) 26-02 (May 29, 2003), which provides guidance on methods of complying with the Federal rule.

i. Describe the State's strategies to enhance and integrate service delivery through the One-Stop delivery system for migrant and seasonal farmworkers and agricultural employers. How will the State ensure that migrant and seasonal farmworkers have equal access to employment opportunities through the State's One-Stop delivery system? Include the number of migrant and seasonal farmworkers the State anticipates reaching annually through outreach to increase their ability to access core, intensive, and training services in the One-Stop Career Center System.

5. Priority of Service

a. What procedures and criteria are in place under 20 CFR 663.600 for the governor and appropriate Local Boards to direct One-Stop operators to give priority of service to public assistance recipients and other low-income individuals for intensive and training services if funds allocated to a local area for adult employment and training activities are determined to be limited? (§§ 112(b)(17)(A)(iv) and 134(d)(4)(E).)

b. What policies and strategies does the State have in place to ensure that, pursuant to the Jobs for Veterans Act (Pub. L. 107-288) (38 U.S.C. 4215), that priority of service is provided to veterans (and certain spouses) who otherwise meet the eligibility requirements for all employment and training programs funded by DOL, in accordance with the provisions of Training and Employment Guidance Letter (TEGL) 5-03 (September 16, 2003)?

D. Rapid Response. Describe how your State provides Rapid Response services with the funds reserved under section 133(a)(2). (§ 112(b)(17)(A)(ii).)

1. Identify the entity responsible for providing Rapid Response services. Describe how Rapid Response activities involve Local Boards and Chief Elected Officials. If Rapid Response activities are shared between the State and local areas, describe the functions of each and how funds are allocated to the local areas.

2. Describe the process involved in carrying out Rapid Response activities.

a. What methods are involved in receiving notice of impending layoffs (include WARN Act notice as well as other sources)?

b. What efforts does the Rapid Response team make to ensure that Rapid Response services are provided, whenever possible, prior to layoff date, onsite at the company, and on company time?

c. What services are included in Rapid Response activities? Does the Rapid Response team provide workshops or other activities in addition to general informational services to affected workers? How do you determine what services will be provided for a particular layoff (including layoffs that may be trade-affected)?

3. How does the State ensure a seamless transition between Rapid Response services and One-Stop activities for affected workers?

4. Describe how Rapid Response functions as a business service. Include whether Rapid Response partners with economic development agencies to connect employees from companies undergoing layoffs to similar companies that are growing and need skilled workers. How does Rapid Response promote the full range of services available to help companies in all stages of the economic cycle, not just those available during layoffs. How does the State promote Rapid Response as a positive, proactive, business-friendly service, rather than only as a reactive service?

5. In what other partnerships does Rapid Response engage to expand the range and quality of services available to companies and affected workers and to develop an effective early layoff warning network?

6. What systems does the Rapid Response team use to track its activities? Does the State have a comprehensive, integrated Management Information System that includes Rapid Response, Trade Act programs, National Emergency Grants, and One-Stop activities?

7. Are Rapid Response funds used for other activities not described above; e.g., the provision of additional assistance to local areas that experience increased workers or unemployed individuals due to dislocation events?

E. Youth. ETA's strategic vision identifies youth most in need—such as youth who are out-of-school youth, at-risk, in foster care or aging out of foster care, offenders, children of incarcerated parents, homeless youth, and migrant and seasonal farmworker youth—as those most in need of service. State programs and services should take a comprehensive approach to serving these youth, including basic skills remediation, helping youth stay in or return to school, employment, internships, help with attaining a high school diploma or GED, post-secondary career and technical education training, Registered Apprenticeship, and enrollment in community and four-year colleges. (§ 112(b)(18).)

1. Describe the State's strategy for providing comprehensive, integrated services to eligible youth, including those most in need as described above. Include any State requirements and activities to assist youth who have special needs or barriers to employment, including those who are pregnant, parenting, or have disabilities. Include how the State will coordinate across State agencies responsible for workforce investment, foster care, education, human services, juvenile justice, and other relevant resources as part of the strategy. (§ 112(b)(18).)

2. Describe how coordination with Job Corps and other youth programs will occur. (§ 112(b)(18)(C).)

3. How does the State plan to utilize the funds reserved for statewide activities to support the State's vision for serving youth? Examples of activities that would be appropriate investments of these funds include:

a. Utilizing the funds to promote cross agency collaboration;

b. demonstrating cross-cutting models of service delivery;

c. developing new models of alternative education leading to employment; or

d. developing demand-driven models with business and industry working collaboratively with the workforce investment system and education partners to develop strategies for bringing these youth successfully into the workforce pipeline with the right skills.

4. Describe in general how the State will meet the Act's provisions regarding Youth program design. (§§ 112(b)(18) and 129(c).)

F. Business Services. (§§ 112(a) and 112(b)(2).) Provide a brief description of the types of services the State offers to businesses, and strategies to improve services to employers, including a description of how the State intends to:

1. Determine the employer needs in the local areas and on a statewide basis.

2. Integrate business services, including Wagner-Peyser Act services, to employers through the One-Stop delivery system.

3. Streamline administration of Federal tax credit programs within the One-Stop system to maximize employer participation. (20 CFR 652.3(b), § 112(b)(17)(A)(i).)

G. Innovative Service Delivery Strategies. Describe innovative service delivery strategies the State has or is planning to undertake to maximize resources, increase service levels, improve service quality, achieve better integration or meet other key State goals. Include in the description the initiative's general design, anticipated outcomes, partners involved and funds leveraged (e.g., title I formula, statewide reserve, employer contributions, education funds, non-WIA State funds). (§ 112(b)(17)(A).)

H. Strategies for Faith-based and Community Organizations. Reaching those most in need is a fundamental element of the demand-driven system's goal to increase the pipeline of needed workers while meeting the training and employment needs of those most at risk. Faith-based and community organizations provide unique opportunities for the workforce investment system to access this pool of workers and meet the needs of business and industry. (§ 112(b)(17)(i).)

1. Describe those activities to be undertaken to:

a. Increase the opportunities for participation of faith-based and community organizations as committed and active partners in the One-Stop delivery system; and

b. expand the access of faith-based and community organizations' clients and customers to the services offered by the One-Stop Career Centers in the State.

2. Outline those action steps designed to strengthen State collaboration efforts with local workforce investment areas in conducting outreach campaigns to educate faith-based and community organizations about the attributes and objectives of the demand-driven workforce investment system.

3. Indicate how these resources can be strategically and effectively leveraged in the State's workforce investment areas to help meet the objectives of the Workforce Investment Act.

X. State Administration

A. What technology infrastructure and/or management information systems does the State have in place to support the State and local workforce investment activities such as a One-Stop operating system designed to facilitate case management and service delivery across programs, a State job matching system, web-based self service tools for customers, fiscal management systems, etc.? (§§ 111(d)(2), 112(b)(1), and 112(b)(8)(B).)

B. Describe the State's plan for use of the funds reserved for statewide activities under WIA § 128 (a)(1).

C. Performance Management and Accountability.

Improved performance and accountability for customer-focused results are central features of WIA. To improve, States need not only reporting systems in place to collect data and track outcomes based on service delivery, but also performance management and accountability systems to analyze the information and modify strategies to improve performance. (See Training and Employment Guidance Letter (TEGL) 17-05, Common Measures Policy for the Employment and Training Administration's (ETA) Performance Accountability System and Related Performance Issues, issued February 17, 2006.) In this section, describe how the State measures the success of its strategies in achieving its goals, and how the State uses these data to continuously improve the system.

1. Describe the State's performance accountability system, including any State-system measures and the State's performance goals established with local areas. Identify the performance indicators and goals the State has established to track its progress toward meeting its strategic goals and implementing its vision for the workforce investment system. For each of the core indicators, explain how the State worked with Local Boards to determine the level of the performance goals. Include a discussion of how the levels compare with the State's previous outcomes as well as with the State-adjusted levels of performance established for other States (if available), taking into account differences in economic conditions, the characteristics of participants when they entered the program and the services to be provided. Include a description of how the levels will help the State achieve continuous improvement over the life of the Plan. (§§ 112(b)(3) and 136(b)(3).)

2. Describe any targeted applicant groups, such as TANF recipients, veterans, ex-offenders, and migrant and seasonal farmworkers, under WIA title I, the Wagner-Peyser Act or title 38 Chapters 41 and 42 (Veterans Employment and Training Programs) that the State tracks. (§§ 111(d)(2), 112(b)(3) and 136(b)(2)(C).)

3. Identify any performance outcomes or measures in addition to those prescribed by WIA and what process the State is using to track and report them.

4. Describe the State's common data system and reporting processes in place to track progress. Describe what performance information will be collected from the various One-Stop partners (beyond that required by DOL), use of quarterly wage records, and how the statewide system will have access to the information needed to continuously improve. (§ 112(b)(8)(B).)

5. Describe any actions the governor and State Board will take to ensure collaboration with key partners and continuous improvement of the statewide workforce investment system. (§§ 111(d)(2) and112(b)(1).)

6. How do the State and Local Boards evaluate performance? What corrective actions (including sanctions and technical assistance) will the State take if performance does not meet expectations? How will the State and Local Boards use the review process to reinforce the strategic direction of the system? (§§ 111(d)(2), 112(b)(1), and 112(b)(3).)

7. Include a proposed level for each performance measure for each program year covered by the Plan. While the Plan is under review, the State will negotiate with the respective ETA Regional Administrator to set the appropriate levels. States must identify the performance indicators required under section 136, and, for each indicator, the State must develop an objective and quantifiable performance goal for each program year. States are encouraged to address how the performance goals for local workforce investment areas and training providers will help them attain their statewide performance goals. (§§ 112(b)(3) and 136.)

D. Administrative Provisions

1. Provide a description of the process for appeals of local area non-designation referred to in § 116(a)(5).

2. Describe the steps taken by the State to ensure compliance with the non-discrimination requirements outlined in § 188.

XI. Assurances

1. The State assures that it will establish, in accordance with section 184 of the Workforce Investment Act, fiscal control and fund accounting procedures that may be necessary to ensure the proper disbursement of, and accounting for, funds paid to the State through the allotments made under sections 127 and 132. (§ 112(b)(11).)

2. The State assures that it will comply with section 184(a)(6), which requires the governor to, every two years, certify to the Secretary, that—

a. the State has implemented the uniform administrative requirements referred to in section 184(a)(3);

b. the State has annually monitored local areas to ensure compliance with the uniform administrative requirements as required under section 184(a)(4); and

c. the State has taken appropriate action to secure compliance with section 184 (a)(3) pursuant to section 184(a)(5). (§ 184(a)(6).)

3. The State assures that the Adult and Youth funds received under the Workforce Investment Act will be distributed equitably throughout the State, and that no local areas will suffer significant shifts in funding from year to year during the period covered by this Plan. (§ 112(b)(12)(B).)

4. The State assures that veterans will be afforded employment and training activities authorized in section 134 of the Workforce Investment Act, and the activities authorized in chapters 41 and 42 of title 38 U.S. code. The State assures that it will comply with the veterans priority established in the Jobs for Veterans Act. (38 U.S.C. 4215).)

5. The State assures that the governor shall, once every two years, certify one Local Board for each local area in the State. (§ 117(c)(2).)

6. The State assures that it will comply with the confidentiality requirements of section 136(f)(3).

7. The State assures that no funds received under the Workforce Investment Act will be used to assist, promote, or deter union organizing. (§ 181(b)(7).)

8. The State assures that it will comply with the nondiscrimination provisions of section 188, including an assurance that a Methods of Administration has been developed and implemented (§ 188.)

9. The State assures that it will collect and maintain data necessary to show compliance with the nondiscrimination provisions of section 188. (§ 185.).

10. The State assures that it will comply with the grant procedures prescribed by the Secretary (pursuant to the authority at section 189(c) of the Act) which are necessary to enter into grant agreements for the allocation and payment of funds under the Act. The procedures and agreements will be provided to the State by the ETA Office of Grants and Contract Management and will specify the required terms and conditions and assurances and certifications, including, but not limited to, the following:

• General Administrative Requirements:

○ 29 CFR 97—Uniform Administrative Requirements for State and Local Governments (as amended by the Act)

○ 29 CFR 96 (as amended by OMB Circular A-133) —Single Audit Act

○ OMB Circular A-87—Cost Principles (as amended by the Act)

• Assurances and Certifications:

○ SF 424 B—Assurances for Non-construction Programs

○ 29 CFR 37—Nondiscrimination and Equal Opportunity Assurance (and regulation) 29 CFR 37.20

○ 29 CFR 93—Certification Regarding Lobbying (and regulation)

○ 29 CFR 98—Drug Free Workplace and Debarment and Suspension Certifications (and regulation)

• Special Clauses/Provisions:

Other special assurances or provisions as may be required under Federal law or policy, including specific appropriations legislation, the Workforce Investment Act, or subsequent Executive or Congressional mandates.

11. The State certifies that the Wagner-Peyser Act Plan, which is part of this document, has been certified by the State Employment Security Administrator.

12. The State certifies that veterans' services provided with Wagner-Peyser Act funds will be in compliance with 38 U.S.C. Chapter 41 and 20 CFR 1001.

13. The State certifies that Wagner-Peyser Act-funded labor exchange activities will be provided by merit-based public employees in accordance with DOL regulations.

14. The State assures that it will comply with the MSFW significant office requirements in accordance with 20 CFR 653.

15. The State certifies it has developed this Plan in consultation with local elected officials, Local Workforce Boards, the business community, labor organizations and other partners.

16. As a condition to the award of financial assistance from the Department of Labor under title I of WIA, the grant applicant assures that it will comply fully with the nondiscrimination and equal opportunity provisions of the following laws:

○ Section 188 of the Workforce Investment Act of 1998 (WIA), which prohibits discrimination against all individuals in the United States on the basis of race, color, religion, sex, national origin, age, disability, political affiliation or belief, and against beneficiaries on the basis of either citizenship/status as a lawfully admitted immigrant authorized to work in the United States or participation in any WIA title I-financially assisted program or activity;

○ Title VI of the Civil Rights Act of 1964, as amended, which prohibits discrimination on the bases of race, color and national origin;

○ Section 504 of the Rehabilitation Act of 1973, as amended, which prohibits discrimination against qualified individuals with disabilities;

○ The Age Discrimination Act of 1975, as amended, which prohibits discrimination on the basis of age; and

○ Title IX of the Education Amendments of 1972, as amended, which prohibits discrimination on the basis of sex in educational programs.

The grant applicant also assures that it will comply with 29 CFR 37 and all other regulations implementing the laws listed above. This assurance applies to the grant applicant's operation of the WIA title I-financially assisted program or activity, and to all agreements the grant applicant makes to carry out the WIA title I-financially assisted program or activity. The grant applicant understands that the United States has the right to seek judicial enforcement of this assurance.

17. The State assures that funds will be spent in accordance with the Workforce Investment Act and the Wagner-Peyser Act and their regulations, written Department of Labor guidance implementing these laws, and all other applicable Federal and State laws and regulations.

OMB Burden Statement

These reporting instructions have been approved under the Paperwork Reduction Act of 1995. Persons are not required to respond to this collection of information unless it displays a valid OMB control number. Public reporting burden for this collection of information includes the time for reviewing instructions, searching existing data sources, gathering and maintaining the data needed, and completing and reviewing the collection of information. Submission is required by the Workforce Investment Act Section 112(a). Send comments regarding this burden estimate or any other aspect of this collection of information, including suggestions for reducing this burden, to the attention of Janet Sten at the U.S. Department of Labor, Office of Workforce Investment, Room C-4510, 200 Constitution Ave., NW., Washington, DC 20210.

Attachment A

Program Administration Designees and Plan Signatures

Name of WIA Title I Grant Recipient Agency:

Address:

Telephone Number:

Facsimile Number:

E-mail Address:

Name of State WIA Title I Administrative Agency (if different from the Grant Recipient):

Address:

Telephone Number:

Facsimile Number:

E-mail Address:

Name of WIA Title I Signatory Official:

Address:

Telephone Number:

Facsimile Number:

E-mail Address:

Name of WIA Title I Liaison:

Address:

Telephone Number:

Facsimile Number:

E-mail Address:

Name of Wagner-Peyser Act Grant Recipient/State Employment Security Agency:

Address:

Telephone Number:

Facsimile Number:

E-mail Address:

Name and Title of State Employment Security Administrator (Signatory Official):

Address:

Telephone Number:

Facsimile Number:

E-mail Address:

As the governor, I certify that for the State/Commonwealth of ______, the agencies and officials designated above have been duly designated to represent the State/Commonwealth in the capacities indicated for the Workforce Investment Act, title I, and Wagner-Peyser Act grant programs. Subsequent changes in the designation of officials will be provided to the U.S. Department of Labor as such changes occur.

I further certify that we will operate our Workforce Investment Act and Wagner-Peyser Act programs in accordance with this Plan and the assurances herein.

Typed Name of Governor

Signature of Governor

Date

Attachment B

Optional Table for State Performance Indicators and Goals

WIA requirement at section 136(b) | Previous year performance | Performance goal
Adults:
Entered Employment Rate |  |
Employment Retention Rate |  |
Average Six-Months Earnings |  |
Certificate Rate |  |
Dislocated Workers:
Entered Employment Rate |  |
Employment Retention Rate |  |
Average Six-Months Earnings |  |
Certificate Rate |  |
Youth Aged 19-21:
Entered Employment Rate |  |
Employment Retention Rate |  |
Six-Months Earnings Change |  |
Certificate Rate |  |
Youth 14-18:
Skill Attainment Rate |  |
Diploma or Equivalent Attainment Rate |  |
Retention Rate |  |
Youth Common Measures¹:
Placement in Employment or Education |  |
Attainment of a Degree or Certificate |  |
Literacy and Numeracy Gains |  |
Participant Customer Satisfaction |  |
Employer Customer Satisfaction |  |
Additional State-Established Measures |  |
¹ Goals are negotiated for these measures by states reporting common performance measure outcomes only.

Attachment C

Local Planning Guidance for Single Workforce Investment Area States

I. Local Plan Submission

Section 118 of the Workforce Investment Act requires that the Board of each local workforce investment area, in partnership with the appropriate Chief Elected Official, develop and submit a comprehensive Local Plan for activities under title I of WIA to the governor for his or her approval. In States where there is only one local workforce investment area, the governor serves as both the State and local Chief Elected Official. In this case, the State must submit both the State and Local Plans to DOL for review and approval. States may (1) submit their Local Plan as an attachment to the State Plan or (2) include these elements within their State Plan, and reference them in an attachment.

The State Planning Guidance and Instructions on Plan modifications and the Plan approval process applies to a single workforce investment area Local Plan for the State, with one addition: DOL will approve a Local Plan within ninety days of submission, unless it is inconsistent with the Act and its implementing regulations, or deficiencies in activities carried out under the Act have been identified and the State has not made acceptable progress in implementing corrective measures. (§ 112(c).)

II. Plan Content

In the case of single workforce investment area States, much of the Local Plan information required by section 118 of WIA will be contained in the State Plan. At a minimum, single workforce investment area Local Plans for the State shall contain the additional information described below, and any other information that the governor may require. For each of the questions, if the answers vary in different areas of the State, please describe those differences.

A. Plan Development Process

1. Describe the process for developing the Local Plan. Describe the process and timeline used to provide an opportunity for public comment, including how local Chief Elected Officials, representatives of businesses and labor organizations, and other appropriate partners provided input into the development of the Local Plan, prior to the submission of the Plan. (§ 118(b)(7).)

2. Include with the Local Plan any comments that represent disagreement with the Plan. (§ 118(c)(3).)

B. Services

1. Describe the One-Stop system(s) that will be established in the State. Describe how the system(s) will ensure the continuous improvement of eligible providers of services and ensure that such providers meet the employment and training needs of employers, workers and job seekers throughout the State. Describe the process for the selection of One-Stop operator(s), including the competitive process used or the consortium partners. (§ 118(b)(2)(A).)

2. Describe and assess the type and availability of Youth activities, including an identification of successful providers of such activities. (§ 118(b)(6).)

C. System Infrastructure

1. Identify the entity responsible for the disbursal of grant funds, as determined by the governor. Describe how funding for areas within the State will occur. Provide a description of the relationship between the State and within-State areas regarding the sharing of costs where co-location occurs. (§ 118(b)(8).)

2. Describe the competitive process to be used to award the grants and contracts in the State for WIA title I activities. (§ 118(b)(9).)

Attachment D

ETA Regional Administrators

April 2008

Region 1—Boston

Grace Kilbane, Regional Administrator, U.S. Department of Labor, JFK Building, Room E-350, Boston, MA 02203, Phone: 617-788-0170, Fax: 617-788-0101, E-mail: Kilbane.Grace@dol.gov.

Region 2—Philadelphia

Lenita Jacobs-Simmons, Regional Administrator, U.S. Department of Labor, The Curtis Center, 170 South Independence Mall West, Suite 825 East, Philadelphia, PA 19106-3315, Phone: 215-861-5205, Fax: 215-861-5260, E-mail: Jacobs-Simmons.Lenita@dol.gov.

Region 3—Atlanta

Helen N. Parker, Regional Administrator, U.S. Department of Labor, Sam Nunn Atlanta Federal Center, 61 Forsyth Street, S.W., Room 6M12, Atlanta, Georgia 30303, Phone: 404-302-5300, Fax: 404-302-5382, E-mail: Parker.Helen@dol.gov.

Region 4—Dallas

Joseph C. Juarez, Regional Administrator, U.S. Department of Labor, A. Maceo Smith Federal Building, 525 S. Griffin Street, Room 317, Dallas, Texas 75202, Phone: 972-850-4600, Fax: 972-850-4605, E-mail: Juarez.Joseph@dol.gov.

Region 5—Chicago

Byron Zuidema, Regional Administrator, U.S. Department of Labor, John Kluczynski Building, 230 S. Dearborn Street, Room 638, Chicago, IL 60604, Phone: 312-596-5400, Fax: 312-596-5401, E-mail: Zuidema.Byron@dol.gov.

Region 6—San Francisco

Richard Trigg, Regional Administrator, U.S. Department of Labor, George W. Bush Federal Building, 90 7th Street, Suite 17-300, San Francisco, California 94103-1516, Phone: 415-625-7900, Fax: 415-625-7903, E-mail: Trigg.Richard@dol.gov.

Dated: November 24, 2008.
Gay M. Gilbert,
Administrator, Office of Workforce Investment, Employment and Training Administration.

[FR Doc. E8-28404 Filed 11-28-08; 8:45 am]

BILLING CODE 4510-FN-P